DEPARTMENT OF COMMERCE

National Oceanic and Atmospheric Administration

[I.D. 021207G]

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a meeting.

DATES: The SSC meeting will be held on March 7, 2007, from 10 a.m. until 4 p.m., approximately.

ADDRESSES: The meeting will be held at the Pierre Hotel at Gallery Plaza, 105 Jose de Diego Avenue, San Juan, Puerto Rico 00914.

FOR FURTHER INFORMATION CONTACT: Caribbean Fishery Management Council, 268 Munoz Rivera Avenue, Suite 1108, San Juan, Puerto Rico 00918-1920; telephone: (787) 766-5926.

SUPPLEMENTARY INFORMATION: The SSC will meet to discuss the items contained in the following agenda:

Call to order

Data and Stock Assessment Needs to End Overfishing and Set Annual Catch Limits for Species Under Management

Presentation and Review of Dr. David Olsen's Data on the Status of the St. Thomas/St. John Fisheries

Discussion on the Sale of Catch by Charter Boats/Recreational Fishers in the US Caribbean (White Paper)

Other Business

Discussion on Vermillion Snapper and Queen Snapper Place in the Management Groups

The meeting is open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. For more information or request for sign language interpretation and/other auxiliary aids, please contact Mr. Miguel A. Rolon, Executive Director, Caribbean Fishery Management Council, 268 Munoz Rivera Avenue, Suite 1108, San Juan, Puerto Rico 00918-1920; telephone: (787) 766-5926, at least 5 days prior to the meeting date.

Dated: February 12, 2007.
James P. Burgess,
Acting Director, Office of Sustainable Fisheries, National Marine Fisheries Service.

[FR Doc. E7-2736 Filed 2-15-07; 8:45 am]

BILLING CODE 3510-22-S